DEPARTMENT OF HOUSING AND URBAN DEVELOPMENT

[Docket No. FR-5477-N-36]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.DC).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; COE: Mr. Scott Whiteford, Army Corps of Engineers, Real Estate, CEMP-CR, 441 G Street, NW, Washington, DC 20314; (202) 761-5542; NAVY: Mr. Albert Johnson, Department of the Navy, Asset Management Division, Naval Facilities Engineering Command, Washington Navy Yard, 1330 Patterson Ave., SW., Suite 1000, Washington, DC 20374; (202) 685-9305; (These are not toll-free numbers).

Dated: September 1, 2011.
Mark R. Johnston,
Deputy Assistant Secretary for Special Needs.

TITLE V, FEDERAL SURPLUS PROPERTY PROGRAM FEDERAL REGISTER REPORT FOR 09/09/2011

Unsuitable Properties

Building

Alaska

Bldg. 5312

9th Street

JBER AK 99506

Landholding Agency: Air Force

Property Number: 18201130010

Status: Underutilized

Reasons: Secured Area, Extensive deterioration

Bldgs. 662 and 664

5th Street

Elmendorf AK 99505

Landholding Agency: Air Force

Property Number: 18201130011

Status: Unutilized

Reasons: Secured Area, Extensive deterioration

Bldg. 5226

2552 Coman Street

Eielson AK 99702

Landholding Agency: Air Force

Property Number: 18201130012

Status: Unutilized

Reasons: Contamination, Extensive deterioration, Secured Area

Bldg. 658

Elmendorf

Elmendorf AK 99505

Landholding Agency: Air Force

Property Number: 18201130013

Status: Unutilized

Reasons: Secured Area, Extensive deterioration

Unsuitable Properties

Building

Alaska

Bldg. 3305

Sourdough Inn

Eielson AK 99702

Landholding Agency: Air Force

Property Number: 18201130014

Status: Unutilized

Reasons: Secured Area, Extensive deterioration

Bldg. 3354

MFH Self Help Store

Eielson AK 99702

Landholding Agency: Air Force

Property Number: 18201130015

Status: Unutilized

Reasons: Secured Area, Extensive deterioration

5 Bldgs.

Elmendorf

JBER AK 99506

Landholding Agency: Air Force

Property Number: 18201130017

Status: Underutilized

Directions: 7210, 5303, 12757, 12761, 12763

Comments: Reasons for unsuitability vary among properties.

Reasons: Secured Area, Within airport runway clear zone, Within 2000 ft. of flammable or explosive material, Extensive deterioration

Bldgs. 719 and 3055

Eareckson Air Station

Eareckson AK 99546

Landholding Agency: Air Force

Property Number: 18201130019

Status: Unutilized

Reasons: Secured Area, Extensive deterioration

Unsuitable Properties

Building

Alaska

Bldg. 3356

Eielson AFB

Eielson AK 99702

Landholding Agency: Air Force

Property Number: 18201130020

Status: Unutilized

Reasons: Within 2000 ft. of flammable or explosive material, Secured Area, Extensive deterioration

Bldg. 667

5th Street

Elmendorf AK 99505

Landholding Agency: Air Force

Property Number: 18201130038

Status: Unutilized

Reasons: Secured Area, Extensive deterioration

California

3 Bldgs.

USAF

Barkdale CA 71110

Landholding Agency: Air Force

Property Number: 18201130007

Status: Unutilized

Directions: B-4134, B-4143, B4714

Comments: Reasons for unsuitability vary among properties.

Reasons: Secured Area, Within 2000 ft. of flammable or explosive material

14 Bldgs.

Surf Road

Vandenberg CA 93437

Landholding Agency: Air Force

Property Number: 18201130016

Status: Unutilized

Directions: 595, 768, 995, 996, 997, 1537, 1538, 1539, 1820, 1835, 1960, 22104, 22107, 22112

Reasons: Secured Area, Extensive deterioration

Unsuitable Properties

Building

California

16 Bldgs.

Edwards AFB

Edwards CA 93524

Landholding Agency: Air Force

Property Number: 18201130035

Status: Unutilized

Directions: 5516, 9644, 2111, 4286, 4290, 4291, 4292, 4410, 4412, 4954, 4957, 4963, 4964, 5502, 5512, 5514

Reasons: Secured Area, Extensive deterioration, Within airport runway clear zone, Contamination

Florida

Bldgs. 3013 and 3018

Duke Field

Okaloosa FL 32542

Landholding Agency: Air Force

Property Number: 18201130021

Status: Underutilized

Reasons: Extensive deterioration, Within 2000 ft. of flammable or explosive material, Secured Area

Facility 3021

Duke Field

Okaloosa FL 32542

Landholding Agency: Air Force

Property Number: 18201130029

Status: Underutilized

Reasons: Contamination, Extensive deterioration, Secured Area, Within 2000 ft. of flammable or explosive material

Unsuitable Properties

Building

Florida

Bldg. 1050

28 South Blvd.

Avon Park FL 33825

Landholding Agency: Air Force

Property Number: 18201130036

Status: Unutilized

Reasons: Secured Area, Extensive deterioration

Hawaii

6 Bldgs.

Wake Island

Wake Island HI 96898

Landholding Agency: Air Force

Property Number: 18201130018

Status: Unutilized

Directions: 400, 1403, 1406, 1407, 1408, 1411

Reasons: Extensive deterioration, Secured Area, Floodway, Contamination

Idaho

7 Bldgs.

Falcon Street

Mountain Home ID 83648

Landholding Agency: Air Force

Property Number: 18201130008

Status: Underutilized

Directions: 4201, 4202, 4205, 4206, 4207, 4208, 4209

Reasons: Extensive deterioration, Secured Area

Unsuitable Properties

Building

Idaho

6 Bldgs.

Mountain Home AFB

Mountain Home ID 83647

Landholding Agency: Air Force

Property Number: 18201130032

Status: Excess

Directions: 2408, 1222, 1224, 1226, 1229, 1359

Comments: Reasons for unsuitability varies among properties

Reasons: Extensive deterioration, Within airport runway clear zone, Secured Area

Illinois

4 Bldgs.

Scott AFB

Scott IL 62225

Landholding Agency: Air Force

Property Number: 18201130023

Status: Excess

Directions: 48, 1910, 1527, 1911

Reasons: Secured Area

Unsuitable Properties

Building

Illinois

5 Bldgs.

Abraham Lincoln Capitol Airport

Springfield IL 62707

Landholding Agency: Air Force

Property Number: 18201130033

Status: Excess

Directions: 404857, 406865, 404844, 404843, 404857

Reasons: Within airport runway clear zone, Secured Area

Iowa

Storage Shed

Island View Park

Centerville IA 52544

Landholding Agency: COE

Property Number: 31201130007

Status: Underutilized

Reasons: Extensive deterioration

Unsuitable Properties

Building

Maryland

Marine State Airport—1080

MD Air Nat'l Guard

Baltimore MD 21220

Landholding Agency: Air Force

Property Number: 18201130027

Status: Excess

Reasons: Secured Area, Within 2000 ft. of flammable or explosive material, Within airport runway clear zone

4 Bldgs.

Naval Operational Support Ctr.

Baltimore MD 21230

Landholding Agency: Navy

Property Number: 77201130016

Status: Unutilized

Directions: 9, 12, 14, 19

Reasons: Extensive deterioration, Secured Area, Contamination, Floodway

Unsuitable Properties

Building

Massachusetts

5 Bldgs.

Otis ANGB

Otis MA 02542

Landholding Agency: Air Force

Property Number: 18201130028

Status: Excess

Directions: 180, 191, 198, 201, 3230

Comments: Reasons for unsuitability vary among properties

Reasons: Extensive deterioration, Secured Area, Within airport runway clear zone

Montana

Malmstrom Radio Relay Annex

Malmstrom AFB

Malmstrom MT

Landholding Agency: Air Force

Property Number: 18201130004

Status: Excess

Reasons: Extensive deterioration

Unsuitable Properties

Building

Montana

9 Bldgs.

Malmstrom AFB

Malmstrom MT 59402

Landholding Agency: Air Force

Property Number: 18201130005

Status: Unutilized

Directions: 219, 250, 1409, 1410, 1902, 1903, 1904, 1905, 2041

Reasons: Secured Area

New Hampshire

Bldg. 256

Portsmouth Internal Airport

Newington NH 03803

Landholding Agency: Air Force

Property Number: 18201130031

Status: Excess

Reasons: Within 2000 ft. of flammable or explosive material, Secured Area

Unsuitable Properties

Building

New Jersey

Bldgs. 2304 and 9144

Joint Base McGuire-Dix-Lakehurst

Trenton NJ

Landholding Agency: Air Force

Property Number: 18201130024

Status: Unutilized

Reasons: Secured Area, Extensive deterioration

New Mexico

Bldgs. 525 and 730

Kirtland AFB

Kirtland NM 87117

Landholding Agency: Air Force

Property Number: 18201130002

Status: Unutilized

Reasons: Secured Area, Extensive deterioration

Unsuitable Properties

Building

New Mexico

Bldg. 1800

Cannon AFB

Cannon NM 88103

Landholding Agency: Air Force

Property Number: 18201130009

Status: Underutilized

Reasons: Within airport runway clear zone, Secured Area

2 Bldgs.

Connecticut Holloman AFB

Holloman NM 88310

Landholding Agency: Air Force

Property Number: 18201130037

Status: Unutilized

Directions: 272 and 273

Reasons: Within airport runway clear zone, Secured Area

Bldg. 1030

2251 Air Guard Dr. SE

Kirtland NM 87117

Landholding Agency: Air Force

Property Number: 18201130039

Status: Underutilized

Reasons: Secured Area

Unsuitable Properties

Building

New York

Bldg. 104

Rome Research Site

Rome NY 13441

Landholding Agency: Air Force

Property Number: 18201130001

Status: Unutilized

Reasons: Secured Area

Ohio

Facility 30089

5490 Pearson

Wright Patterson AFB OH 45433

Landholding Agency: Air Force

Property Number: 18201130022

Status: Excess

Reasons: Extensive deterioration, Secured Area

Unsuitable Properties

Building

Ohio

5 Bldgs.

2660 South East Road

Swanton OH 43558

Landholding Agency: Air Force

Property Number: 18201130026

Status: Underutilized

Directions: 120, 128, 132, 139, 306

Comments: Reasons for unsuitability vary among properties.

Reasons: Secured Area, Extensive deterioration

Texas

Bldg. 23

SWG-Ft. Point Road

Galveston TX 77550

Landholding Agency: COE

Property Number: 31201130008

Status: Unutilized

Reasons: Secured Area

Unsuitable Properties

Building

Utah

Bldgs. 3201 and 3003

Francis Peak

Farmington UT 84025

Landholding Agency: Air Force

Property Number: 18201130025

Status: Excess

Reasons: Secured Area, Within 2000 ft. of flammable or explosive material

Wyoming

6 Bldgs.

USAF

Warren WY 82005

Landholding Agency: Air Force

Property Number: 18201130006

Status: Unutilized

Directions: 835, 836, 839, 945, 985, 2350

Reasons: Secured Area

[FR Doc. 2011-22867 Filed 9-8-11; 8:45 am]

BILLING CODE 4210-67-P